NUCLEAR REGULATORY COMMISSION

[Docket No. 50-305; NRC-2009-0125]

Dominion Energy Kewaunee, Inc.; Notice of Withdrawal of Application for Amendment to Facility Operating License

The U.S. Nuclear Regulatory Commission (NRC, the Commission) has granted the request of Dominion Energy Kewaunee (the licensee) to withdraw its September 14, 2007 application for proposed amendment to Facility Operating License No. DPR-43 for Kewaunee Power Station located in Kewaunee County, Wisconsin.

The proposed amendment would have revised the Technical Specification (TS) requirements related to control room envelope habitability. The proposed changes include revisions to the control room post-accident recirculation system, the instrument operating conditions for isolation functions, and a control room envelope habitability program. The changes are consistent with TS Task Force (TSTF) Change Traveler, TSTF-448-A, Revision 3, “Control Room Habitability.”

The Commission had previously issued a Notice of Consideration of Issuance of Amendment published in the Federal Register on November 20, 2007 (72 FR 65363). However, by letter dated December 17, 2008, the licensee withdrew the application for the proposed amendment.

For further details with respect to this action, see the application for amendment dated September 14, 2007, and the licensee's letter dated December 17, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 11th day of March, 2009.
For the Nuclear Regulatory Commission.
Peter S. Tam,
Senior Project Manager, Plant Licensing Branch III-1, Division of Operating Reactor Licensing, Office of Nuclear Reactor Regulation.

[FR Doc. E9-6104 Filed 3-19-09; 8:45 am]

BILLING CODE 7590-01-P